SMALL BUSINESS ADMINISTRATION

[Declaration of Disaster #3546]

Commonwealth of Virginia (Amendment #2)

In accordance with a notice received from the Department of Homeland Security—Federal Emergency Management Agency, effective September 22, 2003, the above numbered declaration is hereby amended to include the Independent Cities of Bedford, Buena Vista, Charlottesville, Fredericksburg, Harrisonburg, Lynchburg, Manassas, Manassas Park, and Winchester, and the counties of Albemarle, Amelia, Amherst, Appomattox, Bedford, Buckingham, Campbell, Charlotte, Clarke, Culpeper, Cumberland, Dinwiddie, Fauquier, Frederick, Greene, Halifax, Hanover, King George, King William, King and Queen, Louisa, Loudoun, Lunenburg, Madison, Nelson, New Kent, Nottoway, Pittsylvania, Powhatan, Prince Edward, Rappahannock, Rockingham, Shenandoah, and Warren in the Commonwealth of Virginia as disaster areas due to damages caused by Hurricane Isabel occurring on September 18, 2003 and continuing.

In addition, applications for economic injury loans from small businesses located in the contiguous counties of Franklin, Henry, and Roanoke in the Commonwealth of Virginia; Berkeley, Hampshire, Hardy, Jefferson, and Morgan Counties in the State of West Virginia; Frederick and Washington Counties in the State of Maryland; and Caswell, Person, and Rockingham Counties in the State of North Carolina may be filed until the specified date at the previously designated location. All other counties contiguous to the above named independent cities and primary counties have been previously declared.

All other information remains the same, i.e., the deadline for filing applications for physical damage is November 17, 2003, and for economic injury the deadline is June 18, 2004.

(Catalog of Federal Domestic Assistance Program Nos. 59002 and 59008).

Dated: September 25, 2003.
Cheri L. Cannon,
Acting Associate Administrator for Disaster Assistance.

[FR Doc. 03-25032 Filed 10-1-03; 8:45 am]

BILLING CODE 8025-01-P